DEPARTMENT OF VETERANS AFFAIRS

[OMB Control No. 2900-0320]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before August 31, 2005.

For Further Information or a Copy of the Submission Contact: Denise McLamb, Records Management Service (005E3), Department of Veterans Affairs, 810 Vermont Avenue, NW., Washington, DC 20420, (202) 273-8030 or FAX (202) 273-5981. Please refer to “OMB Control No. 2900-0320.”

Send comments and recommendations concerning any aspect of the information collection to VA's Desk Officer, OMB Human Resources and Housing Branch, New Executive Office Building, Room 10235, Washington, DC 20503, (202) 395-7316. Please refer to “OMB Control No. 2900-0320” in any correspondence.

SUPPLEMENTARY INFORMATION: Title: Escrow Agreement for Postponed Exterior Onsite Improvements, VA Form 26-1849.

OMB Control Number: 2900-0320.

Type of Review: Extension of a currently approved collection.

Abstract: The information collected on VA Form 26-1849 documents a legal agreement between parties other than VA when appropriate funds must be set aside for completion of exterior onsite improvements. The builder/seller is required to deposit at least one and one-half times the cost of completing the improvements into an escrow account. The escrow allows the veteran to occupy the property when exterior improvements are postponed due to unforeseen circumstances such as adverse weather or other specified unavoidable conditions.

An agency may not conduct or sponsor, and a person is not required to respond to a collection of information unless it displays a currently valid OMB control number. The Federal Register Notice with a 60-day comment period soliciting comments on this collection of information was published on March 28, 2005, at page 15689.

Affected Public: Individuals or households and Business or other for-profit.

Estimated Annual Burden: 625 hours.

Estimated Average Burden Per Respondent: 30 minutes.

Frequency of Response: On occasion.

Estimated Number of Respondents: 1,250.

Dated: July 21, 2005.
By direction of the Secretary.
Denise McLamb,
Program Analyst, Records Management Service.

[FR Doc. E5-4071 Filed 7-29-05; 8:45 am]

BILLING CODE 8320-01-P